FEDERAL COMMUNICATIONS COMMISSION

47 CFR Part 73

[DA 11-372; MB Docket No. 11-38; RM-11621]

Radio Broadcasting Services; Hebbronville, TX

AGENCY: Federal Communications Commission.

ACTION: Proposed rule.

SUMMARY: This document requests comments on a petition for rulemaking filed by Charles Crawford, proposing the substitution of Channel 282A for vacant Channel 232A at Hebbronville, Texas. The proposed substitution of Channel 282A at Hebbronville accommodates the hybrid application, which requests the substitution of Channel 232A for Channel 282A at Benavides, Texas. See File No. BNPH-20070502ADP. A staff engineering analysis indicates that Channel 282A can be allotted to Hebbronville consistent with the minimum distance separation requirements of the Rules with a site restriction 11 kilometers (6.8 miles) northwest of the community. The reference coordinates are 27-23-18 NL and 98-44-26 WL. The proposed Channel 282A at Hebbronville is located 320 kilometers from the Mexican Border. Therefore, Mexican concurrence has been requested.

DATES: Comments must be filed on or before April 21, 2011, and reply comments on or before May 6, 2011.

ADDRESSES: Secretary, Federal Communications Commission, 445 Twelfth Street, SW., Washington, DC 20554. In addition to filing comments with the FCC, interested parties should serve the petitioner as follows: Charles Crawford, 2215 Cedar Springs Rd., #1605, Dallas, Texas 75201.

FOR FURTHER INFORMATION CONTACT: Rolanda F. Smith, Media Bureau, (202) 418-2180.

SUPPLEMENTARY INFORMATION: This is a synopsis of the Commission's Notice of Proposed Rule Making, MB Docket No. 11-38, adopted February 25, 2011, and released February 28, 2011. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by removing Channel 232A at Hebbronville, and by adding Channel 282A at Hebbronville.

Nazifa Sawez,
Assistant Chief, Audio Division, Media Bureau, Federal Communications Commission.

[FR Doc. 2011-5814 Filed 3-11-11; 8:45 am]

BILLING CODE 6712-01-P